NATIONAL ARCHIVES AND RECORDS ADMINISTRATION

[NARA-2018-044]

Senior Executive Service (SES) Performance Review Board; Members

AGENCY: National Archives and Records Administration.

ACTION: Notice; SES Performance Review Board appointments.

SUMMARY: The National Archives and Records Administration (NARA) is appointing members of NARA's Performance Review Board (PRB). The members of the PRB are: Debra Steidel Wall, Deputy Archivist of the United States; William J. Bosanko, Chief Operating Officer; and Micah M. Cheatham, Chief of Management and Administration. These appointments supersede all previous appointments.

DATES: These appointments are effective on July 19, 2018.

ADDRESSES: Valorie Findlater, Office of Human Capital, National Archives and Records Administration, 8601 Adelphi Road, College Park, MD 20740.

FOR FURTHER INFORMATION CONTACT: Valorie Findlater at 301-837-3754.

SUPPLEMENTARY INFORMATION: The authority for this notice is 5 U.S.C. 4314(c), which also requires each agency to establish, in accordance with regulations prescribed by the Office of Personnel Management, one or more SES Performance Review Boards. The Board shall review the initial appraisal of a senior executive's performance by the supervisor and recommend final action to the appointing authority regarding matters related to senior executive performance.

David S. Ferriero,
Archivist of the United States.

[FR Doc. 2018-15407 Filed 7-18-18; 8:45 am]

BILLING CODE 7515-01-P